ENVIRONMENTAL PROTECTION AGENCY

[EPA-HQ-OPP-2008-0525; FRL-8399-2]

Carbaryl; Notice of Receipt of Requests to Voluntarily Cancel or to Terminate Uses of Certain Pesticide Registrations; Correction

AGENCY: Environmental Protection Agency (EPA).

ACTION: Notice; correction.

SUMMARY: EPA issued a notice in the Federal Register of August 20, 2008, concerning requests from registrants to voluntarily amend their registrations to terminate uses of certain carbaryl products, or eliminate certain application methods for carbaryl products. This document is being issued to correct a typographical error.

FOR FURTHER INFORMATION CONTACT: Christina Scheltema, Special Review and Reregistration Division (7508P), Office of Pesticide Programs, Environmental Protection Agency, 1200 Pennsylvania Ave., NW., Washington, DC 20460-0001; telephone number: (703) 308-2201; e-mail address: scheltema.christina@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

1. Docket. EPA has established a docket for this action under docket identification (ID) number EPA-HQ-OPP-2008-0525. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Does this Correction Do?

FR Doc. E8-19171 published in the Federal Register of August 20, 2008 (73 FR 49184) (FRL-8379-4) is corrected as follows:

On page 49189, under Unit VI. “Provisions for Disposition of Existing Stocks,” in the second paragraph, the last sentence is corrected to read as follows: “Provided that these stocks bear labels previously approved by EPA, registrants may sell and distribute existing stocks of the affected products for 18 months from the effective date of the Agency's termination order, with the exception of Scotts Ortho Business Group and Matson LLC, who may sell and distribute existing stocks of EPA Registration Numbers 239-2514 and 8119-5, respectively, in Table 1 of Unit III for 24 months from the effective date of the Agency's termination order.

List of Subjects

Environmental protection, Pesticides and pests, Carbaryl, SEVIN®.

Dated: January 6, 2009.
Richard P. Keigwin,
Acting Director, Special Review and Reregistration Division, Office of Pesticide Programs.

[FR Doc. E9-594 Filed 1-13-09; 8:45 am]

BILLING CODE 6560-50-S